DEPARTMENT OF THE INTERIOR

Bureau of Indian Affairs

[156A2100DD/AAKC001030/A0A501010.999900 253G]

Land Acquisition; Ho-Chunk Nation of Wisconsin

AGENCY: Bureau of Indian Affairs, Interior.

ACTION: Notice of Acquisition of Land into Trust.

SUMMARY: The United States has acquired approximately 1,553 acres of Federal land within the boundary of the former Badger Army Ammunition Plant near Baraboo, Wisconsin, in trust for the Ho-Chunk Nation of Wisconsin. The acquisition was effectuated by the National Defense Authorization Act for Fiscal Year 2015. This notice provides a legal description of the property.

FOR FURTHER INFORMATION CONTACT: Mr. Michael Black, Director, Bureau of Indian Affairs, MS-4606 MIB, 1849 C Street, NW., Washington, DC 20240; Telephone (202) 208-5116.

SUPPLEMENTARY INFORMATION: On December 12, 2014, Congress passed the National Defense Authorization Act for Fiscal Year 2015 (Act), and on December 19, 2015, the President signed the Act into law. See Public Law 113-291. The Act legislatively transferred approximately 1,553 acres located within the boundary of the former Badger Army Ammunition Plant near Baraboo, Wisconsin, to the Secretary of the Interior in trust for the Ho-Chunk Nation of Wisconsin. The legislation effectuated the acquisition of the land in trust and clarified responsibility and liability with regard to conduct or activities that took place on the land before the transfer. 160 Cong. Rec. S6722 (daily ed. Dec. 12, 2014) (statement of Sen. Baldwin).

The approximately 1,533 acres are within the boundary of the former Badger Army Ammunition Plan, near Baraboo, Wisconsin, and the external boundary is described as follows:

BIA-Ho-Chunk Nation Reservation Trust Land Former Badger Army Ammunition Plant, Sauk Co. WI. Legal Description

A parcel of land located in the NW¼ of the SE¼, the NE¼ of the SE¼, the SE¼ of the SE¼ and the SW¼ of the SE¼ of Section 34, the NW¼ of the SW¼, the NE¼ of the SW¼, the SE¼ of the SW¼, the SW¼ of the SW¼, the NW¼ of the SE¼ and the SW¼ of the SE¼ of Section 35, all in T11N, R6E, Town of Sumpter, Sauk County, Wisconsin, the NW¼ of the NW¼, the SW¼ of the NW¼, the NW¼ of the SW¼ and the SW¼ of the SW¼ of Section 1, the NE¼ of the NE¼, the NW¼ of the NE¼, the SW¼ of the NE¼, the SE¼ of the NE¼, the NE¼ of the NW¼, the NW¼ of the NW¼, the SW¼ of the NW¼, the SE¼ of the NW¼, the NE¼ of the SW¼, the NW¼ of the SW¼, the SW¼ of the SW¼, the SE¼ of the SW¼, the NE¼ of the SE¼, the NW¼ of the SE¼, the SW¼ of the SE¼ and SE¼ of the SE¼ of Section 2, the NE¼ of the NE¼, the NW¼ of the NE¼, the SW¼ of the NE¼, the SE¼ of the NE¼, the NE¼ of the SE¼, the NW¼ of the SE¼, the SW¼ of the SE¼ and SE¼ of the SE¼ of Section 3, the NE¼ of the NE¼ and the SE¼ of the NE¼ of Section 10, the NE¼ of the NE¼, the NW¼ of the NE¼, the SW¼ of the NE¼, the SE¼ of the NE¼, the NE¼ of the NW¼, the NW¼ of the NW¼, the SW¼ of the NW¼, the SE¼ of the NW¼ of Section 11, all in T10N, R6E, Town of Sumpter, Sauk County, Wisconsin more particularly described as follows:

Commencing at the north quarter corner of Section 3, T10N, R6E; thence S52°06′02″ E, 865.88 ft. to a ¾″ solid round iron rod; thence N85°00′00″ E, 35.00 ft. to a ¾″ solid round iron rod; thence S5°00′00″ E, 35.00 ft. to a ¾″ solid round iron rod; thence S85°00′00″ W, 35.00 ft. to a ¾″ solid round iron rod; thence N5°0′00″ W, 35.00 ft. to a ¾″ solid round iron rod; thence N52°06′02″ W, 865.88 ft. to the north quarter corner of section 3, T10N, R6E; THENCE N89°53′11″ E along the north line of the NW¼ of the NE¼ of said Section 3, 20.16 ft. to the south quarter corner of Section 34, T11N, R6E; THENCE N89°56′52″ E along the south line of the SW¼ of the SE¼ of said Section 34, 6.71 ft. to the centerline of United States Highway “12”; THENCE N00°55′51″ E along said centerline, 940.81 ft. to the point of curvature of a curve to the right having a central angle of 05°40′12″ and a radius of 1,910.00 ft.; thence northeasterly along the arc of said curve and said centerline, 189.02 ft. to the point of tangency thereof, said curve having a long chord bearing N03°45′57″ E, 188.94 ft.; THENCE N06°36′03″ E along said centerline, 701.17 ft. to a westerly extension of the north boundary fence of the Badger Army Ammunition Plant; THENCE S89°01′57″ E along said boundary fence extension, 121.59 ft. to a ¾″ solid round iron rod on the east right-of-way line of said United States Highway “12”; THENCE S89°01′57″ E along said boundary fence, 3,730.27 ft. to the top of a 5″ diameter iron pipe at a fence corner in the Badger Army Ammunition Plant perimeter fence; THENCE N01°49′33″ E along said boundary fence, 231.54 ft. to the top of a 5″ diameter iron pipe at a fence corner in the Badger Army Ammunition Plant perimeter fence; THENCE N37°02′42″ E along said boundary fence, 522.84 ft. to a ¾″ solid round iron rod; THENCE N32°56′27″ E along said boundary fence, 349.60 ft. to the top of a 5″ diameter iron pipe at a fence corner in the Badger Army Ammunition Plant perimeter fence; THENCE S85°35′58″ E along said boundary fence, 116.31 ft. to the top of a 5″ diameter iron pipe at a fence corner in the Badger Army Ammunition Plant perimeter fence; THENCE N79°40′05″ E along said boundary fence, 88.90 ft. to a ¾″ solid round iron rod; THENCE N89°42′24″ E along said boundary fence, 107.92 ft. to the top of a 5″ diameter iron pipe at a fence corner in the Badger Army Ammunition Plant perimeter fence; THENCE S03°55′57″ E along said boundary fence, 538.07 ft. to the top of a 5″ diameter iron pipe at a fence corner in the Badger Army Ammunition Plant perimeter fence; THENCE S01°03′37″ W along said boundary fence, 427.20 ft. to the top of a 5″ diameter iron pipe at a fence corner in the Badger Army Ammunition Plant perimeter fence; THENCE S89°02′38″ E along said boundary fence, 1,057.00 ft. to the top of a 5″ diameter iron pipe at a fence corner in the Badger Army Ammunition Plant perimeter fence; THENCE S89°02′38″ E, 107.85 ft. to a ¾″ solid round iron rod; THENCE S29°57′32″ E, 110.60 ft. to a ¾″ solid round iron rod; THENCE S45°35′28″ E, 645.15 ft. to a ¾″ solid round iron rod at the point of curvature of a curve to the right having a central angle of 45°34′28″ and a radius of 280.00 ft.; thence southerly along the arc of said curve, 222.72 ft. to the east line of the SW¼ of the SE¼ of Section 35, T11N, R6E and the point of tangency thereof, said curve having a long chord bearing S22°48′14″ E, 216.89 ft.; THENCE S00°01′00″ E along the east line of said SW¼ of the SE¼, 983.91 ft. to a ¾″ solid round iron rod; thence N88°28′32″ W, 358.22 ft. to a ¾″ solid round iron rod on the north line of the NW¼ of the NE¼ of Section 2, T10N, R6E; thence S89°57′01″ W along said north line, 353.00 ft. to a ¾″ solid round iron rod; thence S0°17′43″ W, 316.48 ft. to a ¾″ solid round iron rod; thence N89°57′01″ E, 353.00 ft. to a ¾″ solid round iron rod; thence N0°17′43″ E, 316.48 ft. to a ¾″ solid round iron rod on the north line of the NW¼ of the NE¼ of Section 2, T10N, R6E; thence S88°28′32″ E, 358.22 ft. to a ¾″ solid round iron rod; THENCE N89°47′45″ E, 1,770.12 ft. to a ¾″ solid round iron rod at the point of curvature of a curve to the right having a central angle of 18°28′58″ and a radius of 656.00 ft.; thence easterly along the arc of said curve, 211.61 ft. to a ¾″ solid round iron rod at the point of compound curvature thereof, said curve having a long chord bearing S80°57′46″ E, 210.70 ft.; said compound curvature being the beginning of a curve to the right having a central angle of 51°35′40″ and a radius of 541.22 ft.; thence southeasterly along the arc of said curve, 487.36 ft. to a ¾″ solid round iron rod at the end of the curve thereof, said curve having a long chord bearing S30°08′16″ E, 471.06 ft. THENCE S04°19′32″ E, 186.91 ft. to a ¾″ solid round iron rod; THENCE S02°46′22″ W, 2,101.76 ft. to a ¾″ solid round iron rod; THENCE S02°46′15″ W, 1,005.40 ft. to a ¾″ solid round iron rod at the point of curvature of a curve to the right having a central angle of 58°50′20″, and a radius of 695.87 ft.; thence southwesterly along the arc of said curve, 714.61 ft. to a ¾″ solid round iron rod at point of reverse curvature thereof, said curve having a long chord bearing S32°57′32″ W, 683.62 ft.; the point of reverse curvature being in a curve to the left having a central angle of 57°26′32″ and a radius of 1,277.16 ft.; thence southeasterly along the arc of said curve, 1,280.42 ft. to a ¾″ solid round iron rod at the end of the curve thereof, said curve having a long chord bearing S34°25′24″ W, 1,227.47 ft.; THENCE S84°20′38″ E, 30.01 ft. to a ¾″ solid round iron rod at the point of curvature of a curve to the left having a central angle of 02°26′12″ and a radius of 2,425.57 ft.; thence southerly along the arc of said curve, 103.16 ft. to a ¾″ solid round iron rod at the end of the curve thereof, said curve having a long chord bearing S03°19′53″ W, 103.15 ft.; THENCE S00°57′46″ W, 380.83 ft. to a ¾″ solid round iron rod; THENCE N88°49′29″ W, 29.99 ft. to a ¾″ solid round iron rod; THENCE S00°57′44″ W, 913.21 ft. to a ¾″ solid round iron rod; THENCE N89°08′47″ W, 70.75 ft. to a ¾″ solid round iron rod at the point of curvature of a curve to the right having a central angle of 28°51′22″ and a radius of 274.99 ft.; thence southerly along the arc of said curve, 138.50 ft. to a ¾″ solid round iron rod at the point of tangency thereof, said curve having a long chord bearing S15°16′53″ W, 137.04 ft.; THENCE S29°42′34″ W, 91.44 ft. to a ¾″ solid round iron rod at the point of curvature of a curve to the left having a central angle of 04°06′24″, and a radius of 1,902.00 ft.; thence southerly along the arc of said curve, 136.33 ft. to a ¾″ solid round iron rod at the point of tangency thereof, said curve having a long chord bearing S27°39′22″ W, 136.30 ft.; THENCE S25°36′10″ W, 336.07 ft. to a ¾″ solid round iron rod; THENCE N89°00′17″ W, 2,293.93 ft. to a ¾″ solid round iron rod at the point of curvature of a curve to the left having a central angle of 32°47′08″ and a radius of 171.64 ft.; thence westerly along the arc of said curve, 98.21 ft. to a ¾″ solid round iron rod at the point of tangency thereof, said curve having a long chord bearing S74°36′09″ W, 96.88 ft.; THENCE S58°12′35″ W, 4.12 ft. to a ¾″ solid round iron rod at the point of curvature of a curve to the right having a central angle of 32°29′28″ and a radius of 180.00 ft.; thence westerly along the arc of said curve, 102.07 ft. to a ¾″ solid round iron rod at the point of tangency thereof, said curve having a long chord bearing S74°27′19″ W, 100.71 ft.; THENCE N89°17′57″ W, 380.98 ft. to a ¾″ solid round iron rod; THENCE N86°54′50″ W, 831.39 ft. to a ¾″ solid round iron rod; THENCE N89°53′10″ W, 96.40 ft. to a ¾″ solid round iron rod at the point of curvature of a curve to the left having a central angle of 64°36′08″ and a radius of 189.00 ft.; thence southwesterly along the arc of said curve, 213.10 ft. to a ¾″ solid round iron rod at the point of tangency thereof, said curve having a long chord bearing S57°48′46″ W, 201.99 ft.; THENCE S25°30′42″ W, 24.98 ft. to a ¾″ solid round iron rod at the point of curvature of a curve to the right having a central angle of 66°27′44″ and a radius of 63.00 ft.; thence westerly along the arc of said curve, 73.08 ft. to a ¾″ solid round iron rod at the point of tangency thereof, said curve having a long chord bearing S58°44′34″ W, 69.05 ft.; THENCE N88°01′34″ W, 214.61 ft. to a ¾″ solid round iron rod at the point of curvature of a curve to the left having a central angle of 90°21′06″ and a radius of 72.00 ft.; thence southerly along the arc of said curve, 113.54 ft. to a ¾″ solid round iron rod at the point of tangency thereof, said curve having a long chord bearing S46°47′53″ W, 102.14 ft; THENCE S01°37′20″ W, 148.74 ft. to a ¾″ solid round iron rod at the point of curvature of a curve to the right having a central angle of 89°03′28″ and a radius of 61.00 ft.; thence westerly along the arc of said curve, 94.82 ft. to a ¾″ solid round iron rod at the point of tangency thereof, said curve having a long chord bearing S46°09′04″ W, 85.55 ft.; THENCE N89°19′12″ W, 791.47 ft. to a ¾″ solid round iron rod; THENCE N01°18′03″ E, 405.32 ft. to a ¾″ solid round iron rod at the point of curvature of a curve to the left having a central angle of 02°45′20″ and a radius of 1,629.00 ft.; thence northerly along the arc of said curve, 78.34 ft. to a ¾″ solid round iron rod at the point of tangency thereof, said curve having a long chord bearing N00°04′37″ W, 78.33 ft. THENCE N01°27′17″ W, 241.79 ft. to a ¾″ solid round iron rod at the point of curvature of a curve to the left having a central angle of 28°49′27″ and a radius of 160.00 ft.; thence northwesterly along the arc of said curve, 80.49 ft. to a ¾″ solid round iron rod at the point of tangency thereof, said curve having a long chord bearing N15°52′00.5″ W, 79.65 ft.; THENCE N30°16′44″ W, 103.56 ft. to a ¾″ solid round iron rod at the point of curvature of a curve to the right having a central angle of 31°17′36″ and a radius of 192.00 ft.; thence northerly along the arc of said curve, 104.87 ft. to a ¾″ solid round iron rod at the point of tangency thereof, said curve having a long chord bearing N14°37′56″ W, 103.57 ft.; THENCE N01°00′52″ E, 62.79 ft. to a ¾″ solid round iron rod; THENCE N89°06′24″ W, 380.04 ft. to a ¾″ solid round iron rod; THENCE N00°17′32″ W, 548.93 ft. to a ¾″ solid round iron rod; THENCE N01°03′16″ E, 1,517.93 ft. to a ¾″ solid round iron rod; THENCE N89°55′10″ W, 632.25 ft. to a ¾″ solid round iron rod; THENCE N00°33′46″ E, 93.42 ft. to a ¾″ solid round iron rod at the point of curvature of a curve to the right having a central angle of 07°05′22″ and a radius of 2,794.00 ft.; thence northerly along the arc of said curve, 345.72 ft. to a ¾″ solid round iron rod at the point of tangency thereof, said curve having a long chord bearing N04°06′27″ E, 345.50 ft.; THENCE N07°39′08″ E, 104.02 ft. to a ¾″ solid round iron rod at the point of curvature of a curve to the left having a central angle of 07°14′40″ and a radius of 1,012.00 ft.; thence northerly along the arc of said curve, 127.96 ft. to a ¾″ solid round iron rod at the point of tangency thereof, said curve having a long chord bearing N04°01′48″ E, 127.87 ft.; THENCE N00°24′28″ E, 210.33 ft. to a ¾″ solid round iron rod; THENCE N89°06′46″ W, 1,056.52 ft. to the west line of the NW¼ of the SE¼ of Section 3, T10N, R6E; THENCE N00°36′25″ E along said west line, 970.26 ft. to the southwest corner of the NE¼ of said Section 3; THENCE N00°40′57″ E along the west line of the NE¼ of said Section 3, 2,747.19 ft. to the point of beginning.

Containing 67,650,480 square feet or 1,553.04 acres more or less.

Subject to the Following Easements to the Town of Sumpter Around Existing Cemeteries

Easement “A”—90 Foot Easement Around Cemetery PARCEL “O2”

A parcel of land located in the NW¼ of the NE¼ of Section 3, T10N, R6E, Town of Sumpter, Sauk County, Wisconsin more particularly described as follows:

Commencing at a Harrison monument at the northeast corner of said Section 3; thence S89°56′52″ W along the north line of the NE¼ of said Section 3, 2618.20 ft. to the south ¼ corner of Section 34, T11N, R6E; thence N89°53′11″ E along the north line of the NE¼ of said Section 3, 20.16 ft. to the north ¼ corner of said Section 3; thence S52°06′02″ E, 865.88 ft. to a ¾″ solid round iron rod at the point of beginning; thence N85°00′00″ E, 35.00 ft. to a ¾″ solid round iron rod; thence S5°00′00″ E, 35.00 ft. to a ¾″ solid round iron rod; thence S50°00′00″ E, 127.28 ft.; thence S85°00′00″ W, 215.00 ft.; thence N5°00′00″ W, 215.00 ft.; thence N85°00′00″ E, 215.00 ft.; thence S5°00′00″ E, 215.00 ft.; thence N50°00′00″ W, 127.28 ft.; thence S85°00′00″ W, 35.00 ft. to a ¾″ solid round iron rod; thence N5°00′00″ W, 35.00 ft. to the point of beginning.

Easement “B”—90 Foot Easement Around Cemetery PARCEL “O6”

A parcel of land located in the NW¼ of the NE¼ of Section 2, T10N, R6E and in the SW¼ of the SE¼ of Section 35, T11N, R6E all in the town of Sumpter, Sauk County, Wisconsin more particularly described as follows:

Commencing at a Harrison monument at the northeast corner of said Section 2; thence S89°57′01″ W along the north line of the NE¼ of the NE¼ and the north line of the NW¼ of the NE¼ of said Section 2, 1667.80 ft. to a ¾″ solid round iron rod at the point of beginning; thence S0°17′43″ W, 316.48 ft. to a ¾″ solid round iron rod; thence S44°52′38″ E, 126.90 ft.; thence N0°17′43″ E, 496.48 ft.; thence S89°57′01″ W, 533.00 ft.; thence S0°17′43″ W, 496.48 ft.; thence N89°57′01″ E, 533.00 ft.; thence N44°52′38″ W, 126.90 ft.; thence S89°57′01″ W, 353.00 ft. to a ¾″ solid round iron rod; thence N0°17′43″ E, 316.48 ft. to a ¾″ solid round iron rod on the north line of the NW¼ of the NE¼ of said Section 2; thence N89°57′01″ E along said north line, 353.00 ft. to the point of beginning.

In addition, pursuant to the Act, federally-owned structures on the property have been transferred to the Ho-Chunk Nation of Wisconsin in fee. The transfer of the property has been recorded at the Land Title Records Office as BIA Land Titles and Records Tract ID #: 439 T 2170.

Authority

This notice publishes the legal description of the property in the Federal Register. The Assistant Secretary—Indian Affairs is issuing this publication under authority delegated by the Secretary of the Interior by 209 Departmental Manual 8.1, and with the concurrence of the Secretary of the Army.

Dated: June 26, 2015.
Kevin K. Washburn,
Assistant Secretary—Indian Affairs.

[FR Doc. 2015-16196 Filed 6-30-15; 8:45 am]

BILLING CODE 4337-15-P